DEPARTMENT OF HEALTH AND HUMAN SERVICES

Centers for Disease Control and Prevention

[60Day-12-12IG]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Kimberly S. Lane, at CDC 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Targeted Surveillance and Biometric Studies for Enhanced Evaluation of Community Transformation Grants—New—National Center for Chronic Disease Prevention and Health Promotion (NCCDPHP), Centers for Disease Control and Prevention (CDC).

Background and Brief Description

The Prevention and Public Health Fund (PPHF) of the Patient Protection and Affordable Care Act of 2010 (ACA) provides an important opportunity for states, counties, territories and tribes to advance public health across the lifespan and to reduce health disparities. The PPHF authorizes Community Transformation Grants (CTG) for the implementation, evaluation, and dissemination of evidence-based community preventive health activities. The CTG Program emphasizes five strategic directions: (1) Tobacco-free living, (2) active lifestyles and healthy eating, (3) high impact, evidence-based clinical and other preventive services, (4) social and emotional well-being, and (5) healthy and safe physical environments.

The CTG Program is administered by the Centers for Disease Control and Prevention (CDC), National Center for Chronic Disease Prevention and Health Promotion (NCCDPHP). As required by Section 4201 of the ACA, CDC is responsible for conducting a comprehensive evaluation of the CTG Program which includes assessment over time of measures relating to each of the five strategic directions. CDC is requesting OMB approval to collect information needed for these assessments. The information collection will include population-level and targeted surveillance of high interest indicators for a range of age groups in select CTG communities, as well as enhanced evaluation studies designed to assess the potential impact of specific CTG strategies on health outcomes.

CDC plans to conduct the Adult Targeted Surveillance Survey (ATSS) in 20 CTG communities. Ten communities that have already received CTG cooperative agreements (group A) will participate in the ATSS in 2012, 2014, and 2016, and ten communities that will receive CTG funding in fiscal year 2013 (group B) will participate in the ATSS in 2013, 2015, and 2017. The ATSS will be administered by telephone to a representative sample of 1,000 adult residents in each community for an estimated annualized number of respondents of 10,000. Respondents will be asked to provide information about household practices and their personal behaviors specific to the five strategic directions (e.g., nutrition). Responses will be used to monitor changes in relevant attitudes, risk behaviors, and other behavioral factors in specific geographic areas where CTG cooperative agreement awardees are implementing interventions related to CTG strategic directions. Information from the targeted surveillance surveys will be compared with data from other local, state or national surveillance systems. During the initial three-year OMB clearance period, the ATSS will be administered to a total of 20,000 respondents in group A communities and 10,000 respondents in group B communities.

CDC's CTG Program evaluation plans also include enhanced evaluation activities and special studies fulfilling the congressional mandate to expand the evidence base of effective public health interventions across a range of settings, population subgroups, and health outcomes. These studies will include use of mixed-method approaches and observational and outcome data collection in select communities. The initial selected studies will address biometric changes specific to CTG interventions; the school environment; health disparities; and use of media. New studies will be added in subsequent years to address additional key areas with important public health impact.

CDC is requesting OMB approval to conduct the Youth and Adult Biometric Study (YABS), one of the above mentioned special studies, in 10 CTG areas that are implementing evidence-based strategies to prevent exposure to secondhand smoke and to improve nutrition and physical activity among children and adults. The YABS will examine the impact of CTG strategies on biometric markers of health status including weight, height (i.e., body mass index or BMI), waist circumference, secondhand smoke exposure, and blood pressure.

Participants in the YABS will be drawn from two samples of households. The first sample will be a targeted sub-sample of ATSS-respondent households that have at least one child between the ages of 3-17 years. The second sample of households will be recruited from an address listing that contains households with children in school catchment areas of high interest for assessing CTG interventions targeted to prevent childhood obesity. Data collection for both samples will be identical, with one exception. Adults from the second sample will be asked at the beginning of the phone call to participate in the telephone-based ATSS interview and YABS. Adults in the ATSS sub-sample will be asked to participate in YABS at the completion of the phone call, in order to maintain the ATSS interview as the priority for this set of respondents.

Each adult respondent in the YABS will be asked to participate in an in-home visit with a trained interviewer, who will collect biometric data about the respondent such as height, weight, saliva, blood pressure, etc. The adult respondent will also be asked to provide information about his or her activity level over a one-week period. Objective measures of activity will be collected through use of an accelerometer, i.e., an electronic meter worn next to the body. In addition, the respondent will maintain a hardcopy activity diary to assist in interpreting the accelerometry data. An adult YABS respondent who is the parent or guardian of a child in the household will be asked to allow one child (age 3-17 years) to participate in the youth component of the YABS. With the child's assent, similar biometric and activity measures will be collected from the child. If the child is between 3 and 8 years of age, the parent or guardian will be asked to complete a Caregiver Survey about the child's behaviors. If the child is between 9 and 17 years of age, he or she will be asked to complete a Youth Survey.

The information to be collected will allow CDC to estimate the effect of all CTG interventions on health behaviors and health outcomes in adults and children ages 3-17 years, and to estimate the independent effect of school-based interventions in youth. OMB approval is requested for the first three years of the five-year CTG project period. Participation is voluntary and there are no costs to respondents other than their time.

Estimated Annualized Burden Hours
Type of respondent | Form name | Number of respondents | Number of responses per respondent | Average burden per response (in hr) | Total burden (in hr)
Adults in CTG Awardee Communities | Adult Targeted Surveillance Survey | 10,000 | 1 | 30/60 | 5,000
Adult Participants in the Youth and Adult Biometric Study | Adult Targeted Surveillance Survey | 1,300 | 1 | 30/60 | 650
| Adult Biometric Measures | 2,500 | 1 | 20/60 | 833
| Adult Activity Diary | 500 | 1 | 20/60 | 167
| Caregiver Survey | 1,000 | 1 | 15/60 | 250
Child Participants in the Youth and Adult Biometric Study | Child Biometric Measures | 2,000 | 1 | 15/60 | 500
| Child Activity Diary | 500 | 1 | 10/60 | 83
| Youth Survey | 1,000 | 1 | 15/60 | 250
Total |  |  |  |  | 7,733

Kimberly S. Lane,
Deputy Director, Office of Scientific Integrity, Office of the Associate Director for Science, Office of the Director, Centers for Disease Control and Prevention.

[FR Doc. 2012-9356 Filed 4-17-12; 8:45 am]

BILLING CODE 4163-18-P